DEPARTMENT OF TRANSPORTATION

Surface Transportation Board

[STB Docket No. AB-290 (Sub-No. 311X)]

Norfolk Southern Railway Company—Petition for Exemption—in Baltimore City and Baltimore County, MD

On December 16, 2009, Norfolk Southern Railway Company (NSR) filed with the Surface Transportation Board a petition under 49 U.S.C. 10502 for exemption from the provisions of 49 U.S.C. 10903 to abandon its rail freight operating rights and freight service operations over a 13.26-mile dead-end segment (“Line”) of a line of railroad commonly known in recent years as the Cockeysville Industrial Track (“CIT”). The Line is located between railroad milepost UU-1.00 (located just north of Wyman Park Drive, formerly Cedar Avenue) and the end of the CIT line south of the bridge at railroad milepost UU-15.44 in the City of Baltimore and in Baltimore County, MD.

In addition to an exemption from the prior approval requirements of 49 U.S.C. 10903, NSR seeks exemption from 49 U.S.C. 10904 [offer of financial assistance procedures] and 49 U.S.C. 10905 [public use conditions]. In support, NSR states that, following abandonment of the freight service operating rights and freight service operations, the Line will remain in use for a public purpose as a passenger rail transit line of railroad operated by the Maryland Transportation Administration (MTA) and owned by the Maryland Department of Transportation (MDOT). This request will be addressed in the final decision.

The line does not contain Federally granted rights-of-way. Any documentation in NSR's possession concerning this matter will be made available promptly to those requesting it.

The interest of railroad employees will be protected by the conditions set forth in Oregon Short Line R. Co.-Abandonment-Goshen, 360 I.C.C. 91 (1979).

By issuing this notice, the Board is instituting an exemption proceeding pursuant to 49 U.S.C. 10502(b). A final decision will be issued by April 5, 2010.

Any offer of financial assistance (OFA) under 49 CFR 1152.27(b)(2) will be due no later than 10 days after service of a decision granting the petition for exemption. Each OFA must be accompanied by a $1,500 filing fee. See 49 CFR 1002.2(f)(25).

All interested persons should be aware that, following abandonment of rail service and salvage of the line, the line may be suitable for other public use, including interim trail use.¹ Any request for a public use condition under 49 CFR 1152.28 or for trail use/rail banking under 49 CFR 1152.29 will be due no later than [20 DAYS AFTER SERVICE DATE]. Each trail use request must be accompanied by a $250 filing fee. See 49 CFR 1002.2(f)(27).

¹ In the petition, NSR states that it does not have a sufficient property interest in the right-of-way that NSR could convey to a third party for additional public use. NSR therefore claims that the Line's right-of-way property is not suitable for additional public use.

All filings in response to this notice must refer to STB Docket No. AB-290 (Sub-No. 311X), and must be sent to: (1) Surface Transportation Board, 395 E Street, SW., Washington, DC 20423-0001; and (2) James R. Paschall, Senior General Attorney, Norfolk Southern Railway Corporation, Three Commercial Place, Norfolk, VA 23510. Replies to NSR's petition are due on or before [20 DAYS AFTER SERVICE DATE].

Persons seeking further information concerning abandonment procedures may contact the Board's Office of Public Assistance, Governmental Affairs, and Compliance at (202) 245-0238 or refer to the full abandonment or discontinuance regulations at 49 CFR part 1152. Questions concerning environmental issues may be directed to the Board's Section of Environmental Analysis (SEA) at (202) 245-0305. Assistance for the hearing impaired is available through the Federal Information Relay Service (FIRS) at 1-800-877-8339.

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

This action will not significantly affect either the quality of the human environment or the conservation of energy resources.

Decided: December 24, 2009.
By the Board.
Rachel D. Campbell,
Director, Office of Proceedings.
Andrea Pope-Matheson,
Clearance Clerk.

[FR Doc. E9-31041 Filed 1-4-10; 8:45 am]

BILLING CODE 4915-01-P